DEPARTMENT OF COMMERCE

Foreign-Trade Zones Board

[Docket 13-2008]

Foreign-Trade Zone 104—Savannah, GA; Application for Expansion

An application has been submitted to the Foreign-Trade Zones Board (the Board) by the Savannah Airport Commission, grantee of FTZ 104, requesting authority to expand FTZ 104 in the Savannah, Georgia, area, adjacent to the Savannah Customs and Border Protection port of entry. The application was submitted pursuant to the provisions of the Foreign-Trade Zones Act, as amended (19 U.S.C. 81a-81u), and the regulations of the Board (15 CFR Part 400). It was formally filed on February 25, 2008.

FTZ 104 was approved on April 18, 1984 (Board Order 256, 49 FR 17789, 4/25/84), and expanded on October 13, 1995 (Board Order 775, 60 FR 54469, 10/24/95), on December 18, 2001 (Board Order 1197, 66 FR 67183, 12/28/01), on May 15, 2006 (Board Order 1449, 71 FR 29613, 5/23/06), and on May 18, 2007 (Board Order 1512, 72 FR 31050, 6/5/07).

The zone project currently consists of the following sites in the Savannah area: Site 1 (32 acres)—within the 3,400-acre Savannah International Airport, Savannah; Site 2 (1,075 acres)—includes the 849-acre Garden City (Containerport) Terminal, 2 Main Street, Chatham, and the 226-acre Ocean Terminal, 950 West River Street, Savannah; Site 2A (1 acre, 43,560 sq. ft.)—located at 730 King George Boulevard, Savannah; Site 3 (1,820 acres)—Crossroads Business Center, Interstate 95 and Godley Road, Chatham County; Site 4 (1,353 acres)—SPA Industrial Park, located one mile east of the Interstate 95/U.S. 80 interchange, Chatham County; Site 5 (24 acres)—within the 94-acre Savannah International Trade and Convention Center, One International Drive, Savannah; Site 6 (1,182 acres)—Mulberry Grove site, Interstate 95 and State Highway 21, Savannah; Site 7 (1,592 acres, 3 parcels)—within a 2,140-acre portion of the Tradeport Business Center industrial park, 380 Sunbury Road, Midway; and, Site 8 (98 acres, 3 parcels)—industrial park located on Tremont Road near the Interstate 16 and Georgia 516 interchange, Savannah (sunset 5/31/2012).

The applicant is requesting authority to expand the zone to include a site in Pooler (Chatham County): Proposed Site 9 (62.9 acres)—Savannah Logistics Park at Morgan Center located at the intersection of S.H. Morgan Parkway and Pooler Parkway. The site is owned by Oakmont Morgan Center, LLC. The site will provide warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is May 12, 2008. Rebuttal comments in response to material submitted during the foregoing period may be submitted during the subsequent 15-day period to May 27, 2008.

A copy of the application and accompanying exhibits will be available for public inspection at each of the following locations: U.S. Department of Commerce, Export Assistance Center, 111 East Liberty Street, Suite 202, Savannah, GA 31401; and, the Office of the Executive Secretary, Foreign-Trade Zones Board, Room 2111, U.S. Department of Commerce, 1401 Constitution Avenue, NW., Washington, DC 20230.

For further information, contact Camille Evans at Camille_Evans@ita.doc.gov or at (202) 482-2350.

Dated: February 25, 2008.
Andrew McGilvray,
Executive Secretary.

[FR Doc. E8-4835 Filed 3-10-08; 8:45 am]

BILLING CODE 3510-DS-P